FEDERAL COMMUNICATIONS COMMISSION

Sunshine Act Meeting; A Closed Commission Meeting, Thursday, November 8, 2001

November 1, 2001.

The Federal Communications Commission will hold a Closed Meeting on the subject listed below on Thursday, November 8, 2001, following the Open Meeting, which is scheduled to commence at 9:30 a.m. in Room TW-C305, at 445 12th Street, SW., Washington, DC.

Item No. | Bureau | Subject
1 | General Counsel | Title: Commission Internal Processes.
|  | Summary: The Commission will discuss possible changes to its internal processes.

This item is closed to the public because it concerns internal practices. (See 47 CFR Sec. 0.603(b)).

The following persons are expected to attend:

Commissioners and their Assistants

The Secretary

General Counsel and members of her staff

Action by the Commission November 1, 2001. Commissioners, Powell Chairman; Abernathy, Copps and Martin voting to consider these matters in Closed Session.

Additional information concerning this meeting may be obtained from Maureen Peratino or David Fiske, Office of Media Relations, telephone number (202) 418-0500; TTY 1-888-835-5322.

Federal Communications Commission.
Magalie Roman Salas,
Secretary.

[FR Doc. 01-28009 Filed 11-2-01; 2:58 pm]

BILLING CODE 6712-01-M